EXPORT-IMPORT BANK OF THE UNITED STATES

Sunshine Act Meeting

ACTION: Notice of a Partially Open Meeting of the Board of Directors of the Export-Import Bank of the United States.

TIME AND PLACE: Friday, September 27, 2013 at 11:00 a.m. The meeting will be held at Ex-Im Bank in Room 321, 811 Vermont Avenue NW., Washington, DC 20571.

OPEN AGENDA ITEMS: Item No. 1: Proposed Extension of the 2012 Sub-Saharan Africa Advisory Committee Members.

PUBLIC PARTICIPATION: The meeting will be open to public observation for Item No. 1 only.

FOR FURTHER INFORMATION CONTACT: Members of the public who wish to attend the meeting should call Joyce Stone, Office of the Secretariat, 811 Vermont Avenue NW., Washington, DC 20571 (202) 565-3336 by close of business Wednesday, September 25, 2013.

Cristopolis A. Dieguez,
Program Specialist, Office of General Counsel.

[FR Doc. 2013-21490 Filed 8-29-13; 4:15 pm]

BILLING CODE 6690-01-P